ENVIRONMENTAL PROTECTION AGENCY

40 CFR Part 52

[EPA-R06-OAR-2005-TX-0014; FRL-8022-2]

Approval and Promulgation of Air Quality Implementation Plans; Texas; Revisions To Control Volatile Organic Compound Emissions; Volatile Organic Compound Control for Facilities in the Dallas/Fort Worth Ozone Nonattainment Area

AGENCY: Environmental Protection Agency (EPA).

ACTION: Direct final rule.

SUMMARY: EPA is taking direct final action to approve Texas State Implementation Plan (SIP) revisions. The revisions pertain to regulations to control Volatile Organic Compound (VOC) emissions from VOC transfer operations and solvent using processes. The revisions allow use of gasoline vapor recovery systems approved by Texas, and add new requirements to control VOC emissions from motor vehicle fuel dispensing facilities and surface coating facilities in Ellis, Johnson, Kaufman, Parker, and Rockwall Counties. These counties are part of the Dallas/Fort Worth (DFW) 8-hour ozone standard nonattainment area. The revisions also amend regulations on use of cleaning solvents. We are approving the revisions pursuant to sections 110, 116 and part D of the Federal Clean Air Act (CAA). The control of VOC emissions will help to attain and maintain the 8-hour national ambient air quality standard (NAAQS) for ozone in Texas. This approval will make the revised regulations Federally enforceable.

DATES: This rule is effective on March 20, 2006 without further notice, unless EPA receives relevant adverse comment by February 21, 2006. If EPA receives such comment, EPA will publish a timely withdrawal in the Federal Register informing the public that this rule will not take effect.

ADDRESSES: Submit your comments, identified by Docket No. EPA-R06-OAR-2005-TX-0014, by one of the following methods:

• Federal eRulemaking Portal: http://www.regulations.gov. Follow the on-line instructions for submitting comments.

• EPA Region 6 “Contact Us” Web site: http://epa.gov/region6/r6coment.htm. Please click on “6PD” (Multimedia) and select “Air” before submitting comments.

• E-mail: Mr. Thomas Diggs at diggs.thomas@epa.gov. Please also send a copy by email to the person listed in the FOR FURTHER INFORMATION CONTACT section below.

• Fax: Mr. Thomas Diggs, Chief, Air Planning Section (6PD-L), at fax number 214-665-7263.

• Mail: Mr. Thomas Diggs, Chief, Air Planning Section (6PD-L), Environmental Protection Agency, 1445 Ross Avenue, Suite 1200, Dallas, Texas 75202-2733.

• Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2005-TX-0014. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Texas Commission on Environmental Quality, Office of Air Quality, 12124 Park 35 Circle, Austin, Texas 78753.

FOR FURTHER INFORMATION CONTACT: Carl Young, Air Planning Section (6PD-L), Environmental Protection Agency, Region 6, 1445 Ross Avenue, Suite 700, Dallas, Texas 75202-2733, telephone 214-665-6645; fax number 214-665-7263; e-mail address young.carl@epa.gov.

SUPPLEMENTARY INFORMATION: Throughout this document, whenever “we”, “us”, or “our” is used, we mean the EPA.

Outline

I. What is a SIP?

II. What Rules Were Submitted by Texas to be Approved into the SIP?

III. What Action is EPA Taking?

IV. What is the Effect of this Action?

V. Final Action

VI. Statutory and Executive Order Reviews

I. What Is a SIP?

Section 110 of the CAA requires states to develop air pollution regulations and control strategies to ensure that state air quality meets the NAAQS established by EPA. These ambient standards are established under section 109 of the CAA, and they currently address six criteria pollutants. These pollutants are: Carbon monoxide, nitrogen dioxide, ozone, lead, particulate matter, and sulfur dioxide.

Each state which contains areas that are not attaining the NAAQS must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

II. What Rules Were Submitted by Texas To Be Approved Into the SIP?

Texas submitted rules for inclusion into the SIP for ozone which added and amended requirements to control VOC emissions. VOCs are a key component in the formation of ozone. The rules also made a variety of changes which (1) clarify existing requirements, (2) update references, and (3) make the rules easier to read. The revisions amended Title 30 of the Texas Administrative Code, Chapter 115, Control of Air Pollution from Volatile Organic Compounds (30 TAC 115). See our Technical Support Document (TSD) for more information.

The State rules add new requirements to control VOC emissions from (1) motor vehicle fuel dispensing facilities and (2) surface coating facilities in Ellis, Johnson, Kaufman, Parker, and Rockwall Counties. These counties are part of the DFW 8-hour ozone standard nonattainment area. Facilities in the other DFW area counties, (Dallas, Denton, Tarrant and Collin Counties), are already subject to the requirements.

The State rules require motor vehicle fuel dispensing facilities in Ellis, Johnson, Kaufman, Parker, and Rockwall Counties that dispense at least 10,000 but less than 125,000 gallons of fuel per calender month to operate Stage I gasoline vapor recovery systems no later than June 15, 2007 (30 TAC 115.229). Stage I vapor recovery systems control VOC vapor emissions as gasoline tank-trucks fill gasoline station storage tanks by returning the vapors to the tank-truck. Facilities in these counties that dispense 125,000 gallons or more per month were already required to operate Stage I vapor recovery systems.

Surface coating facilities in Ellis, Johnson, Kaufman, Parker, and Rockwall Counties must comply with Texas requirements to control VOC emissions no later than June 15, 2007 (30 TAC 115.429). Surface coating facilities apply or impregnate material onto or into a substrate for protective, decorative, or functional purposes. Such materials include paints, varnishes, sealants, adhesives, thinners, and inks. The requirements affect (1) materials used for surface coating that emit VOCs and (2) practices and control equipment to minimize VOC emissions.

The rules amend regulations on Stage I and Stage II vapor recovery systems at motor vehicle fuel dispensing facilities. Stage II gasoline vapor recovery systems control VOC vapor releases during the refueling of motor vehicles. The rules allow Texas to approve use of gasoline vapor recovery systems certified by an independent third party (30 TAC 115 §§ 222, 223, 240, 242, and 245) and expand the types of Stage II vapor recovery equipment deemed compatible with onboard refueling vapor recovery (ORVR) systems (30 TAC 115.240). Equipment can be certified as ORVR compatible by the California Air Resources Board or an independent third party using approved tests. ORVR equipment is required on newer vehicles. Requiring compatibility between ORVR and Stage II systems will decrease VOC emissions when vehicles with ORVR are being refueled. Requirements for ORVR compatibility were previously approved by EPA on March 29, 2005 (70 FR 15769).

An inconsistency was corrected between the Texas regulations and EPA requirements for aerospace manufacturing and rework operations, (40 CFR 63.744). See our TSD for more information. With the correction, use of certain low VOC emission hydrocarbon-based cleaning solvents for aerospace coating processes is exempt from “housekeeping measures” (30 TAC 115.422(5)(E)). Housekeeping measures include storing cleaning solvents and materials moistened with cleaning solvents in closed containers. In order to be exempt the hydrocarbon-based cleaning solvent must have a maximum vapor pressure of seven millimeters of mercury (mm Hg) at 20 degrees Celsius (68 degrees Fahrenheit) and contain no hazardous air pollutants, as defined in Title III of the CAA.

An additional option was provided for certain offset lithographic printers to meet VOC control requirements. The printers may use low VOC emission cleaning solutions with a maximum VOC composite partial pressure of ten mm Hg at 20 degrees Celsius (30 TAC 115.442(1)(F)(iii)). The VOC composite partial pressure is the sum of the partial pressures of the VOC compounds in the cleaning solution. Monitoring requirements for VOC control devices used on heatset offset lithographic printing presses were changed to allow for a temperature monitoring device accuracy of plus or minus 1.0% of the temperature being monitored, in lieu of an accuracy of plus or minus 0.5 degrees Fahrenheit (30 TAC 115.446(1)). The requirements apply to offset lithographic printers in Brazoria, Chambers, Collin, Dallas, Denton, El Paso, Fort Bend, Galveston, Gregg, Hardin, Harris, Jefferson, Liberty, Montgomery, Nueces, Orange, Tarrant, Victoria, and Waller Counties.

III. What Action Is EPA Taking?

EPA is taking direct final action to approve revisions to the Texas SIP that pertain to regulations which control VOC emissions in Texas. The revisions were adopted by the State of Texas and submitted to EPA on (1) September 7, 2001, (2) July 18, 2002, (3) January 28, 2003, (4) November 7, 2003, (5) April 15, 2005, and (6) May 13, 2005.

The revisions submitted to EPA that are being approved amend §§ 115.10, 115.211, 115.214, 115.215, 115.216, 115.217, 115.219, 115.222, 115.223, 115.229, 115.240, 115.242, 115.243, 115.245, 115.248, 115.249, 115.420, 115.421, 115.422, 115.423, 115.426, 115.427, 115.429, 115.432, 115.433, 115.435, 115.436, 115.439, 115.440, 115.442, 115.445, and 115.446 in 30 TAC 115. The revisions (1) allow use of gasoline vapor recovery systems approved by Texas, and (2) add new requirements to control VOC emissions from motor vehicle fuel dispensing facilities and surface coating facilities in Ellis, Johnson, Kaufman, Parker, and Rockwall Counties. These counties are part of the DFW 8-hour ozone standard nonattainment area. The revisions also amend regulations on use of cleaning solvents.

We are approving the revisions pursuant to sections 110, 116 and part D of the CAA. Many of these revisions are nonsubstantive changes which clarify rules that are already contained in the Texas ozone SIP. The other revisions strengthen the Texas ozone SIP as they (1) reduce VOC emissions in the Dallas/Fort Worth area by adding additional controls, (2) provide more options for controlling VOC emissions that are equivalent to controls approved by EPA, and (3) add incentives for use of products that have lower VOC emissions. The control of VOC emissions will help to attain and maintain the 8-hour national ambient air quality standard (NAAQS) for ozone in Texas. The State's revisions will not interfere with any applicable requirement concerning attainment or any other applicable requirement of the CAA. As such, EPA's approval of the revisions complies with the requirements of section 110(l) of the CAA. Under section 110(l) EPA may not approve a SIP revision if the revision would interfere with any applicable requirement concerning attainment or any other applicable requirement of the CAA. This approval will make the revised regulations Federally enforceable. Other revisions of the Texas VOC regulations submitted to EPA will be addressed in another Federal Register action. See our TSD for more information.

We are also making ministerial corrections to the table in 40 CFR 52.2270(c) to reflect SIP submittal dates and Federal Register citations of EPA action. The ministerial corrections apply to table entries for §§ 115.212, 115.213, 115.224, 115.225, 115.226, 115.234, 115.235, 115.236, 115.237, 115.424, 115.425, 115.430, 115.437, 115.443, and 115.449.

IV. What Is the Effect of This Action?

This action approves revisions to the Texas SIP that pertain to regulations to control VOC emissions. The control of VOC emissions will help to attain and maintain the 8-hour NAAQS for ozone in Texas. This approval will make these revised regulations Federally enforceable. Enforcement of the regulations in a State SIP before and after it is incorporated into the Federally approved SIP is primarily a state responsibility. However, after the regulations are Federally approved, we are authorized to take enforcement action against violators. Citizens are also offered legal recourse to address violations as described in section 304 of the CAA.

V. Final Action

EPA is approving revisions to the Texas SIP pertaining to control of VOC emissions. The revisions were submitted to EPA by the State of Texas on (1) September 7, 2001, (2) July 18, 2002, (3) January 28, 2003, (4) November 7, 2003, (5) April 15, 2005, and (6) May 13, 2005. The revisions being approved are §§ 115.10, 115.211, 115.214, 115.215, 115.216, 115.217, 115.219, 115.222, 115.223, 115.229, 115.240, 115.242, 115.243, 115.245, 115.248, 115.249, 115.420, 115.421, 115.422, 115.423, 115.426, 115.427, 115.429, 115.432, 115.433, 115.435, 115.436, 115.439, 115.440, 115.442, 115.445, and 115.446 in 30 TAC Chapter 115, Control of Air Pollution from Volatile Organic Compounds.

We have evaluated the State's submittal and have determined that it meets the applicable requirements of the CAA and EPA air quality regulations. Therefore, we are approving revisions to the Texas SIP of regulations to control VOC emissions. The control of VOC emissions will help to attain and maintain the 8-hour national ambient air quality standard for ozone in Texas.

We are also making ministerial corrections to the table in 40 CFR 52.2270(c) to reflect SIP submittal dates and Federal Register citations of EPA action. The ministerial corrections apply to table entries for Sections 115.212, 115.213, 115.224, 115.225, 115.226, 115.234, 115.235, 115.236, 115.237, 115.424, 115.425, 115.430, 115.437, 115.443, and 115.449.

EPA is publishing this rule without prior proposal because we view this as a noncontroversial amendment and anticipate no relevant adverse comments. However, in the proposed rules section of this Federal Register publication, we are publishing a separate document that will serve as the proposal to approve the SIP revision if relevant adverse comments are received. This rule will be effective on March 20, 2006 without further notice unless we receive relevant adverse comment by February 21, 2006. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

VI. Statutory and Executive Order Reviews

Under Executive Order 12866 (58 FR 51735, October 4, 1993), this action is not a “significant regulatory action” and therefore is not subject to review by the Office of Management and Budget. For this reason and because this action will not have a significant, adverse effect on the supply, distribution, or use of energy, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions under the National Technology Transfer and Advancement Act of 1995 (15 U.S.C. 272 note), EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by March 20, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Reporting and recordkeeping requirements, Volatile organic compounds.

Dated: January 6, 2006.
Lawrence E. Starfield,
Acting Regional Administrator, Region 6.

40 CFR part 52 is amended as follows:

PART 52—[AMENDED]

1. The authority citation for part 52 continues to read as follows:

Authority: 42 U.S.C. 7401 et seq.

Subpart SS—Texas

2. The table in § 52.2270(c) entitled “EPA Approved Regulations in the Texas SIP” is amended by revising the entries for §§ 115.10, 115.211, 115.212, 115.213, 115.214, 115.215, 115.216, 115.217, 115.219, 115.222, 115.223, 115.224, 115.225, 115.226, 115.229, 115.234, 115.235, 115.236, 115.237, 115.240, 115.242, 115.243, 115.245, 115.248, 115.249, 115.420, 115.421, 115.422, 115.423, 115.424, 115.425, 115.426, 115.427, 115.429, 115.430, 115.432, 115.433, 115.435, 115.436, 115.437, 115.439, 115.440, 115.442, 115.443, 115.445, 115.446 and 115.449 to read as follows:

§ 52.2270 Identification of plan.

* * * * *

(c) * * *

EPA-Approved Regulations in the Texas SIP
State citation | Title/subject | State approval/submittal date | EPA approval date | Explanation
* * * * * * *
Chapter 115 (Reg 5)—Control of Air Pollution from Volatile Organic Compounds
* * * * * * *
Subchapter A: Definitions
Section 115.10 | Definitions | 04/13/05 | 01/19/06 [Insert FR page number where document begins]
* * * * * * *
Subchapter C: Volatile Organic Compound Transfer Operations
Division 1: Loading and Unloading of Volatile Organic Compounds
Section 115.211 | Emission Specifications | 12/13/02 | 01/19/06 [Insert FR page number where document begins]
Section 115.212 | Control Requirements | 12/06/00 | 07/16/01, 66 FR 36913
Section 115.213 | Alternate Control Requirements | 06/30/99 | 12/20/00, 65 FR 79745
Section 115.214 | Inspection Requirements | 04/26/02 | 01/19/06 [Insert FR page number where document begins]
Section 115.215 | Approved Test Methods. | 12/13/02 | 01/19/06 [Insert FR page number where document begins]
Section 115.216 | Monitoring and Record-keeping Requirements | 10/22/03 | 01/19/06 [Insert FR page number where document begins]
Section 115.217 | Exemptions | 10/22/03 | 01/19/06 [Insert FR page number where document begins]
Section 115.219 | Counties and Compliance | 12/13/02 | 01/19/06 [Insert FR page number where document begins]
* * * * * * *
Division 2: Filling of Gasoline Storage Vessels (Stage I) for Motor Vehicle Fuel Dispensing Facilities
Section 115.222 | Control Requirements | 03/23/05 | 01/19/06 [Insert FR page number where document begins]
Section 115.223 | Alternate Control Requirements | 03/23/05 | 01/19/06 [Insert FR page number where document begins]
Section 115.224 | Inspection Requirements | 06/30/99 | 12/20/00, 65 FR 79745
Section 115.225 | Testing Requirements | 06/30/99 | 12/20/00, 65 FR 79745
Section 115.226 | Recordkeeping Requirements | 06/30/99 | 12/20/00, 65 FR 79745
| * * * * * * *
Section 115.229 | Counties and Compliance Schedule D | 04/13/05 | 01/19/06 [Insert FR page number where document begins]
Division 3: Control of Volatile Organic Leaks from Transport Vessels
Section 115.234 | Inspection Requirements | 06/30/99 | 12/20/00, 65 FR 79745
Section 115.235 | Approved Test Methods | 06/30/99 | 12/20/00, 65 FR 79745
Section 115.236 | Recordkeeping Requirements | 06/30/99 | 12/20/00, 65 FR 79745
Section 115.237 | Exemptions | 06/30/99 | 12/20/00, 65 FR 79745
* * * * * * *
Division 4: Control of Vehicle Refueling Emissions (Stage II) at Motor Vehicle Fuel Dispensing Facilities
Section 115.240 | Stage II Vapor Recovery Definitions and List of California Air Resources Board Certified Stage II Equipment | 3/23/05 | 01/19/06 [Insert FR page number where document begins]
* * * * * * *
Section 115.242 | Control Requirements | 03/23/05 | 01/19/06 [Insert FR page number where document begins]
Section 115.243 | Alternate Control Requirements | 03/23/05 | 01/19/06 [Insert FR page number where document begins]
* * * * * * *
Section 115.245 | Testing Requirements | 03/23/05 | 01/19/06 [Insert FR page number where document begins]
* * * * * * *
Section 115.248 | Training Requirements | 03/23/05 | 01/19/06 [Insert FR page number where document begins]
Section 115.249 | Counties and Compliance Schedules | 03/23/05 | 01/19/06 [Insert FR page number where document begins]
* * * * * * *
Subchapter E: Solvent-Using Processes
* * * * * * *
Division 2: Surface Coating Processes
Section 115.420 | Surface Coating Definitions | 12/13/02 | 01/19/06 [Insert FR page number where document begins]
Section 115.421 | Emission Specifications | 12/13/02 | 01/19/06 [Insert FR page number where document begins]
Section 115.422 | Control Requirements | 04/26/02 | 01/19/06 [Insert FR page number where document begins]
Section 115.423 | Alternate Control Requirements | 08/08/01 | 01/19/06 [Insert FR page number where document begins]
Section 115.424 | Inspection Requirements | 06/29/00 | 10/30/01, 66 FR 54688. |
Section 115.425 | Testing Requirements | 06/29/00 | 10/30/01, 65 FR 54688. |
Section 115.426 | Monitoring and Recordkeeping Requirements | 08/08/01 | 01/19/06 [Insert FR page number where document begins]
Section 115.427 | Exemptions | 12/31/02 | 01/19/06 [Insert FR page number where document begins]
Section 115.429 | Counties and Compliance Schedules | 04/13/05 | 01/19/06 [Insert FR page number where document begins]
Division 3: Flexographic and Rotogravure Printing
Section 115.430 | Flexographic and Rotogravure Printing Definitions | 12/06/01 | 07/16/01, 66 FR 36913
Section 115.432 | Control Requirements | 08/08/01 | 01/19/06 [Insert FR page number where document begins]
Section 115.433 | Alternate Control Requirements | 08/08/01 | 01/19/06 [Insert FR page number where document begins]
Section 115.435 | Testing Requirements | 08/08/01 | 01/19/06 [Insert FR page number where document begins]
Section 115.436 | Monitoring and Record-keeping Requirements | 08/08/01 | 01/19/06 [Insert FR page number where document begins]
Section 115.437 | Exemptions | 02/14/96 | 01/26/99, 64 FR 3841
Section 115.439 | Counties and Compliance Schedules | 08/08/01 | 01/19/06 [Insert FR page number where document begins]
Division 4: Offset Lithographic Printing
Section 115.440 | Offset Printing Definitions | 04/26/02 | 01/19/06 [Insert FR page number where document begins]
Section 115.442 | Control Requirements | 04/26/02 | 01/19/06 [Insert FR page number where document begins]
Section 115.443 | Alternate Control Requirements | 02/24/99 | 04/06/00, 65 FR 18003
Section 115.445 | Approved Test Methods | 04/26/02 | 01/19/06 [Insert FR page number where document begins]
Section 115.446 | Monitoring and Record-keeping Requirements | 04/26/02 | 01/19/06 [Insert FR page number where document begins]
Section 115.449 | Counties and Compliance Schedules | 12/06/00 | 07/16/01, 66 FR 36913
* * * * * * *

[FR Doc. 06-435 Filed 1-18-06; 8:45 am]

BILLING CODE 6560-50-P